DEPARTMENT OF ENERGY

Federal Energy Regulatory Commission

[Docket No. CP03-13-000]

Northwest Pipeline Corporation; Notice of Site Visit

February 5, 2003.

On February 19, 2003, the staff of the Office of Energy Projects (OEP) will conduct a site visit of Northwest Pipeline Corporation's (Northwest's) proposed Clackamas River Project in Clackamas County, Washington. The site visit will begin at 1 p.m. at Northwest's Oregon City Compressor Station south of the Clackamas River. Both sides of the Clackamas River crossing will be visited. Representatives of Northwest, the U.S. Fish and Wildlife Service, the NOAA Fisheries, the U.S. Army Corps of Engineers, and the State of Oregon may accompany the staff. Any person interested in attending the site visit should meet with FERC staff at 1 p.m. at the Oregon City Compressor Station and must provide their own transportation.

The address of the Oregon City Compressor Station is 15124 South Springwater Road, Oregon City, OR 97045, phone number (503) 631-2163 x 2460. This station can be accessed by using the Carver exit off Highway 212/224. For further information about the project, please contact the Commission's Office of External Affairs at (202) 502-8004 or toll free at 1-866-208-3372.

Magalie R. Salas,
Secretary.

[FR Doc. 03-3355 Filed 2-10-03; 8:45 am]

BILLING CODE 6717-01-P